DEPARTMENT OF ENERGY

Federal Energy Regulatory Commission

Combined Notice of Filings #1

Take notice that the Commission received the following exempt wholesale generator filings:

Docket Numbers: EG25-49-000.

Applicants: Escape Solar LLC.

Description: Escape Solar LLC submits Notice of Self-Certification of Exempt Wholesale Generator Status.

Filed Date: 12/3/24.

Accession Number: 20241203-5084.

Comment Date: 5 p.m. ET 12/24/24.

Docket Numbers: EG25-50-000.

Applicants: Long Beach Generation LLC.

Description: Long Beach Generation LLC submits Notice of Self-Certification of Exempt Wholesale Generator Status.

Filed Date: 12/3/24.

Accession Number: 20241203-5158.

Comment Date: 5 p.m. ET 12/24/24.

Take notice that the Commission received the following electric rate filings:

Docket Numbers: ER24-1848-001.

Applicants: Portland General Electric Company.

Description: Compliance filing: PGE Order Nos.2023_2023A_Amendment_Compliance_Filing to be effective 12/23/2024.

Filed Date: 12/3/24.

Accession Number: 20241203-5209.

Comment Date: 5 p.m. ET 12/24/24.

Docket Numbers: ER24-2804-000; ER18-1639-000; ER18-1639-014.

Applicants: Constellation Mystic Power, LLC, Constellation Mystic Power, LLC.

Description: Constellation Mystic Power, LLC submit a compliance filing to the November 1, 2024, Commission's order.

Filed Date: 11/27/24.

Accession Number: 20241127-5356.

Comment Date: 5 p.m. ET 12/18/24.

Docket Numbers: ER24-2896-002.

Applicants: ALLETE, Inc.

Description: Tariff Amendment: ALLETE CMA End Deferral Filing to be effective 8/29/2024.

Filed Date: 12/3/24.

Accession Number: 20241203-5121.

Comment Date: 5 p.m. ET 12/24/24.

Docket Numbers: ER25-85-000.

Applicants: Westside Canal 2A, LLC.

Description: Supplement to 10/11/2024 Westside Canal 2A, LLC tariff filing.

Filed Date: 11/27/24.

Accession Number: 20241127-5330.

Comment Date: 5 p.m. ET 12/9/24.

Docket Numbers: ER25-585-000.

Applicants: Pacific Gas and Electric Company.

Description: TO SA 489: Metcalf Energy Center Unexecuted LGIA to be effective 11/29/2024.

Filed Date: 11/27/24.

Accession Number: 20241127-5190.

Comment Date: 5 p.m. ET 12/18/24.

Docket Numbers: ER25-612-000.

Applicants: PJM Interconnection L.L.C.

Description: PJM Interconnection, L.L.C. submits one-time prospective limited waiver request for an extension of time to complete its annual review of costs and benefits of one economic project as required by Amended and Restated Operating Agreement.

Filed Date: 11/26/24.

Accession Number: 20241126-5347.

Comment Date: 5 p.m. ET 12/10/24.

Docket Numbers: ER25-613-000.

Applicants: New York Independent System Operator, Inc.

Description: Tariff Amendment: Notice of Cancellation: EPCA for LIPA SDU (SA2776) to be effective 2/3/2025.

Filed Date: 12/3/24.

Accession Number: 20241203-5042.

Comment Date: 5 p.m. ET 12/24/24.

Docket Numbers: ER25-614-000.

Applicants: New England Power Company.

Description: Notice of Cancellation of Service Agreement for Firm Local Generation Delivery Service of New England Power Company.

Filed Date: 11/26/24.

Accession Number: 20241126-5349.

Comment Date: 5 p.m. ET 12/17/24.

Docket Numbers: ER25-615-000.

Applicants: Speedway Solar, LLC.

Description: § 205(d) Rate Filing: Revised Market-Based Rate Tariff Filing to be effective 2/2/2025.

Filed Date: 12/3/24.

Accession Number: 20241203-5067.

Comment Date: 5 p.m. ET 12/24/24.

Docket Numbers: ER25-616-000.

Applicants: Rocking R Solar, LLC.

Description: § 205(d) Rate Filing: Revised Market-Based Rate Tariff Filing to be effective 2/2/2025.

Filed Date: 12/3/24.

Accession Number: 20241203-5068.

Comment Date: 5 p.m. ET 12/24/24.

Docket Numbers: ER25-617-000.

Applicants: PJM Interconnection, L.L.C.

Description: § 205(d) Rate Filing: Amendment to ISA & CSA, SA Nos. 6874 & 6875; Queue No. AD2-086/AE1-090 (amend) to be effective 2/2/2025.

Filed Date: 12/3/24.

Accession Number: 20241203-5075.

Comment Date: 5 p.m. ET 12/24/24.

Docket Numbers: ER25-618-000.

Applicants: PJM Interconnection, L.L.C.

Description: § 205(d) Rate Filing: Amendment to ISA, Service Agreement No. 5846; Queue No. AB2-133 to be effective 2/2/2025.

Filed Date: 12/3/24.

Accession Number: 20241203-5080.

Comment Date: 5 p.m. ET 12/24/24.

Docket Numbers: ER25-619-000.

Applicants: ALLETE, Inc.

Description: § 205(d) Rate Filing: ALLETE CMA End Deferral Filing to be effective 8/29/2024.

Filed Date: 12/3/24.

Accession Number: 20241203-5088.

Comment Date: 5 p.m. ET 12/24/24.

Docket Numbers: ER25-620-000.

Applicants: LRE Interconnection Manager, LLC.

Description: § 205(d) Rate Filing: Shared Facilities Agreement and Request for Waivers and Blanket Authorization to be effective 12/4/2024.

Filed Date: 12/3/24.

Accession Number: 20241203-5092.

Comment Date: 5 p.m. ET 12/24/24.

Docket Numbers: ER25-621-000.

Applicants: Pacific Gas and Electric Company.

Description: Wholesale Distribution Tariff for Rate Year 2025 of Pacific Gas and Electric Company.

Filed Date: 12/2/24.

Accession Number: 20241202-5303.

Comment Date: 5 p.m. ET 12/23/24.

Docket Numbers: ER25-623-000.

Applicants: White Wing Ranch North, LLC.

Description: § 205(d) Rate Filing: Certificate of Concurrence to Shared Facilities Common Ownership Agreement to be effective 12/4/2024.

Filed Date: 12/3/24.

Accession Number: 20241203-5104.

Comment Date: 5 p.m. ET 12/24/24.

Docket Numbers: ER25-624-000.

Applicants: Pacific Gas and Electric Company.

Description: Informational Filing of 2025 Transmission Owner Tariff Formula Rate Annual Update of Pacific Gas and Electric Company.

Filed Date: 12/2/24.

Accession Number: 20241202-5304.

Comment Date: 5 p.m. ET 12/23/24.

Docket Numbers: ER25-625-000.

Applicants: AEP Texas Inc.

Description: § 205(d) Rate Filing: AEPTX-BT Cantwell 4th Amended Generation Interconnection Agreement to be effective 11/6/2024.

Filed Date: 12/3/24.

Accession Number: 20241203-5117.

Comment Date: 5 p.m. ET 12/24/24.

Docket Numbers: ER25-626-000.

Applicants: Blossburg Power, LLC, Brunot Island Power, LLC, Gilbert Power, LLC, Hamilton Power, LLC, Hunterstown Power, LLC, Mountain Power, LLC, New Castle Power, LLC, Orrtanna Power, LLC, Portland Power, LLC, Sayreville Power, LLC, Shawnee Power, LLC, Shawville Power, LLC, Titus Power, LLC, Tolna Power, LLC, Warren Generation, LLC.

Description: Joint Request for Limited Waiver of Blossburg Power, LLC, et. al.

Filed Date: 11/27/24.

Accession Number: 20241127-5358.

Comment Date: 5 p.m. ET 12/18/24.

Docket Numbers: ER25-627-000.

Applicants: PJM Interconnection, L.L.C.

Description: § 205(d) Rate Filing: Amendment to ISA, Service Agreement No. 6728; Queue No. AE2-001 to be effective 2/2/2025.

Filed Date: 12/3/24.

Accession Number: 20241203-5138.

Comment Date: 5 p.m. ET 12/24/24.

Docket Numbers: ER25-628-000.

Applicants: PJM Interconnection, L.L.C.

Description: § 205(d) Rate Filing: Original GIA Service Agreement No. 7424; Project Identifier No. AF2-417 to be effective 11/4/2024.

Filed Date: 12/3/24.

Accession Number: 20241203-5164.

Comment Date: 5 p.m. ET 12/24/24.

Docket Numbers: ER25-629-000.

Applicants: PJM Interconnection, L.L.C.

Description: § 205(d) Rate Filing: Original NSA, SA No. 7431; Queue No. AC1-010 to be effective 2/2/2025.

Filed Date: 12/3/24.

Accession Number: 20241203-5176.

Comment Date: 5 p.m. ET 12/24/24.

Docket Numbers: ER25-630-000.

Applicants: Emera Energy U.S. Subsidiary No. 1, Inc.

Description: Tariff Amendment: Notice of Cancellation of Market-Based Rate Tariff to be effective 12/31/2024.

Filed Date: 12/3/24.

Accession Number: 20241203-5180.

Comment Date: 5 p.m. ET 12/24/24.

Docket Numbers: ER25-631-000.

Applicants: Emera Energy U.S. Subsidiary No. 2, Inc.

Description: Tariff Amendment: Notice of Cancellation of Market-Based Rate Tariff to be effective 12/31/2024.

Filed Date: 12/3/24.

Accession Number: 20241203-5181.

Comment Date: 5 p.m. ET 12/24/24.

Docket Numbers: ER25-632-000.

Applicants: Midcontinent Independent System Operator, Inc.

Description: § 205(d) Rate Filing: 2024-12-03_SA 3194 Wolf Run Solar-Ameren Illinois 2nd Rev GIA (J641) to be effective 11/25/2024.

Filed Date: 12/3/24.

Accession Number: 20241203-5192.

Comment Date: 5 p.m. ET 12/24/24.

Docket Numbers: ER25-633-000.

Applicants: PacifiCorp.

Description: § 205(d) Rate Filing: PGE Concurrence—Grassland IA to be effective 11/4/2024.

Filed Date: 12/3/24.

Accession Number: 20241203-5224.

Comment Date: 5 p.m. ET 12/24/24.

Docket Numbers: ER25-634-000.

Applicants: Manitowoc Public Utilities.

Description: § 205(d) Rate Filing: RS No. 5—Monthly System Support Resource Payment for Lakefront No. 9 to be effective 2/1/2025.

Filed Date: 12/3/24.

Accession Number: 20241203-5229.

Comment Date: 5 p.m. ET 12/24/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 3, 2024.
Carlos D. Clay,
Acting Deputy Secretary.

[FR Doc. 2024-28835 Filed 12-6-24; 8:45 am]

BILLING CODE 6717-01-P